DEPARTMENT OF THE TREASURY

Internal Revenue Service

Privacy Act of 1974, As Amended; System of Records

AGENCY: Internal Revenue Service, Treasury.

ACTION: Notice of proposed new privacy act system of records.

SUMMARY: In accordance with the requirements of the Privacy Act of 1974, as amended, 5 U.S.C. 552a, the Department of the Treasury, Internal Revenue Service, gives notice of a proposed new system of records entitled “Treasury/IRS 22.062—Electronic Filing Records.”

DATES: Comments must be received no later than October 2, 2000. This new system of records will be effective October 10, 2000 unless the IRS receives comments which would result in a contrary determination.

ADDRESSES: Comments should be sent to the Office of Governmental Liaison and Disclosure, Internal Revenue Service, 1111 Constitution Avenue, NW, Washington, DC 20224. Comments will be made available for inspection and copying in the Freedom of Information Reading Room (1621) at the above address, upon request.

FOR FURTHER INFORMATION CONTACT: JoAnn Blank, National Director, Individual Electronic Filing Division, Electronic Tax Administration, OP:ETA:I, Internal Revenue Service, 5000 Ellin Road, Lanham, MD 20706. Telephone number (202) 283-4790.

SUPPLEMENTARY INFORMATION: The proposed system will allow the IRS to better serve the public through more efficient administration of electronic filing of returns. The proposed system will include records about current, past, and potential electronic filing providers, and records concerning marketing and improving electronic filing processes. Records about electronic providers will be used to determine their suitability to participate in the electronic filing program. Certain records will concern why electronic providers have been rejected from participation, including the reasons for such rejection, or for suspension or expulsion from participation. Electronic providers are electronic return originators, electronic return transmitters, and individual filing software developers. Potential electronic filing providers are individuals to whom the IRS wants to market the benefits of becoming an electronic filing provider. An electronic return originator is: (a) An electronic return preparer who prepares returns for taxpayers who intend to have their returns electronically filed, or (b) an electronic return collector who accepts completed tax returns, including Forms 8453 (U.S. Individual Income Tax Declaration for Electronic Filing), from taxpayers who intend to have their returns electronically filed. An electronic return transmitter transmits the electronic portion of a return directly to the IRS. In order to protect the public interest, IRS conducts background investigations of people who apply to file returns electronically for others. Principals of firms or organizations who want to electronically file for others must file IRS Form 8633 (Application to Participate in the Electronic Filing Program). The information from Form 8633 will be used for background checks, which may include fingerprint checks and inquiries to the FBI asking whether the applicant has a criminal history. Records in the system will include records with information from people who volunteer their opinions concerning how to improve electronic filing procedures and ease of use. Records may also include information about people who attend seminars or otherwise express an interest in electronic filing so they can receive information about the benefits of electronic filing.

The proposed new system of records entitled “Electronic Filing Records—Treasury/IRS 22.062” is published in its entirety below.

Dated: August 23, 2000.
W. Earl Wright, Jr.,
Director, Management and Administrative Programs.

Treasury/IRS 22.062

System Name:

Electronic Filing Records—Treasury/IRS.

System Location:

IRS National Office, District Offices, Service Centers, and Computing Centers. (See IRS Appendix A for addresses.)

Categories of Individuals Covered by the System:

Electronic return providers (electronic return preparers, electronic return collectors, electronic return originators, electronic filing transmitters, individual filing software developers) who have applied to participate, are participating, or have been rejected, expelled or suspended from participation in the electronic filing program (including Volunteer Income Tax Assistance (VITA) volunteers). Individuals who attend, or have indicated interest in attending, seminars and marketing programs to encourage electronic filing and improve electronic filing programs (including individuals who provide opinions or suggestions to improve electronic filing programs), or who otherwise indicate interest in participating in electronic filing programs.

Categories of Records in the System:

Records pertaining to individual electronic filing providers including applications to participate in electronic filing, credit reports, conduct reports, law enforcement records, and other information from investigations into suitability for participation. Records pertaining to marketing electronic filing, including surveys and opinions about improving electronic filing programs.

Authority for Maintenance of the System:

5 U.S.C. 301; 26 U.S.C. 6011, 6012, and 7803.

Purposes(s):

This system will maintain records for administration and marketing of electronic filing programs.

Routine Uses of Records Maintained in the System, Including Categories of Users and the Purposes of Such Uses:

Disclosure of returns and return information may be made only as provided by 26 U.S.C. 6103.

Records other than returns and return information may be used to:

(1) Disclose pertinent information to appropriate Federal, state, or foreign agencies or instrumentalities responsible for investigating or prosecuting the violations of, or for implementing, a statute, rule, regulation, order, or license, where the disclosing agency becomes aware of a violation or potential violation of civil or criminal law or regulation or licensing requirements;

(2) Disclose information to a Federal, state, or local agency maintaining civil, criminal, or other relevant enforcement information or other pertinent information, which has requested information relevant to or necessary to the requesting agency's or the bureau's hiring or retention of an individual, or issuance of a security clearance, license, contract, grant, or other benefit;

(3) Disclose information in a proceeding before a court, adjudicative body, or other administrative body before which the agency is authorized to appear when: (a) The agency, or (b) any employee of the agency in his or her official capacity, or (c) any employee of the agency in his or her individual capacity where the Department of Justice or the agency has agreed to represent the employee; or (d) the United States, when the agency determines that litigation is likely to affect the agency, is a party to litigation or has an interest in such litigation, and the use of such records by the agency is deemed to be relevant and necessary to the litigation or administrative proceeding and not otherwise privileged;

(4) Provide information to a congressional office in response to an inquiry made at the request of the individual to whom the record pertains;

(5) Provide information to third parties during the course of an investigation to the extent necessary to obtain information that is pertinent to the investigation, including credit bureaus for credit checks and fingerprint records to the FBI or other law enforcement agencies;

(6) Provide information to the news media in accordance with guidelines contained in 28 CFR 50.2 which relate to an agency's functions relating to civil and criminal proceedings;

(7) Provide information to contractors for use in contracted services for electronic filing programs;

(8) Disclose information to state taxing authorities to promote joint and state electronic filing, including marketing such programs and enforcing the legal and administrative requirements of such programs;

(9) Disclose to the public the identities (including addresses) of electronic return originators, electronic return preparers, electronic return transmitters, and individual filing software developers, who have been suspended, removed, or otherwise disciplined. The Service may also disclose the effective date and duration of the suspension, removal, or other disciplinary action;

(10) Disclose information to a court, magistrate, or administrative tribunal in the course of presenting evidence, including disclosures to opposing counsel or witnesses in the course of civil discovery, litigation, or settlement negotiations or in connection with criminal law proceedings or in response to a subpoena.

Policies and Practices for Storing, Retrieving, Accessing, Retaining, and Disposing of Records in the System:

Storage:

Paper and magnetic media.

Retrievability:

By electronic filing provider name or tax identification number (SSN, EIN, EFIN, PTIN) or document control number (DCN).

Safeguards:

Access controls will not be less than those provided for by the Manager's Security Handbook, IRM 1(16)12, and the Automated Information System Security Handbook, IRM 2.10.

Retention and Disposal:

Records are maintained in accordance with Records Disposition Handbook, IRM 1.15.

System Manager(s) and Address:

Official prescribing policies and practices: Assistant Commissioner (Electronic Tax Administration). Officials maintaining the system: Assistant Commissioner (Electronic Tax Administration), Business Systems Modernization Executive/Chief Information Officer, Regional Commissioners, District Directors, IRS Submission Processing Center Directors, Customer Service Center Directors, Computing Center Directors. (See IRS Appendix A for addresses.)

Notification Procedure:

Individuals wishing to be notified if they are named in this system of records, or to gain access to records maintained in the system of records may inquire in accordance with instructions appearing at 31 CFR part 1, subpart C, appendix B. Inquiries should be addressed to the appropriate official maintaining the system (above).

Record Access Procedures:

See “Notification procedure” above.

Contesting Record Procedures:

26 U.S.C. 7852(e) prohibits Privacy Act amendment of tax records. See “Notification procedure” above for seeking amendment to records that are not tax records.

Record Source Categories:

Information in this system is obtained from the following sources: (1) Electronic filing providers; (2) informants and third party information; (3) city and state governments; (4) IRS and other Federal agencies; (5) professional organizations; (6) business entities; and (7) participants in marketing efforts or who have otherwise indicated interest in electronic filing programs.

Exemptions Claimed for the System:

None.

[FR Doc. 00-22259 Filed 8-30-00; 8:45 am]

BILLING CODE 4830-01-P